DEPARTMENT OF ENERGY

Federal Energy Regulatory Commission

[Docket No. RP02-362-002]

PG&E Gas Transmission, Northwest Corporation; Notice of Tariff Filing

October 22, 2002.

Take notice that on October 15, 2002, PG&E Gas Transmission, Northwest Corporation (GTN) tendered for filing tariff sheets to modify the Tariff mechanism that allows the pipeline to enter into pre-arranged capacity sales with its shippers. GTN requests that these tariff sheets become effective on November 14, 2002.

GTN states that a copy of this filing has been served upon its customers and interested state regulatory commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 502-8659. The Commission strongly encourages electronic filings. See, 18 CFR 385.2001(a)(1)(iii) and the instructions on the Commission's web site under the “e-Filing” link.

Linwood A. Watson, Jr.,
Deputy Secretary.

[FR Doc. 02-27462 Filed 10-28-02; 8:45 am]

BILLING CODE 6717-01-P